NATIONAL SCIENCE FOUNDATION

Sunshine Act Meetings

The National Science Board's Committee on Strategy's Subcommittee on Technology, Innovation and Partnerships hereby gives notice of the scheduling of a teleconference for the transaction of National Science Board business pursuant to the NSF Act and the Government in the Sunshine Act.

Time and Date: Wednesday, March 22, 2023, from 10:30-11:30 a.m. EDT.

Place: This meeting will be via videoconference through the National Science Foundation, 2415 Eisenhower Avenue, Alexandria, VA 22314.

Status: Closed.

Matters to be Considered: The agenda is: Subcommittee Chair's Opening Remarks; Goals for the inaugural Type 2 competition portfolio and discussion of portfolio construction strategy, process, and risk.

Contact Person for More Information: Point of contact for this meeting is: Chris Blair, cblair@nsf.gov, 703/292-7000. Meeting information and updates may be found at www.nsf.gov/nsb.

Christopher Blair,
Executive Assistant to the National Science Board Office.

[FR Doc. 2023-05651 Filed 3-15-23; 4:15 pm]

BILLING CODE 7555-01-P